DEPARTMENT OF AGRICULTURE

National Institute of Food and Agriculture

7 CFR Part 3434

RIN 0524-AA39

Hispanic-Serving Agricultural Colleges and Universities (HSACU) Certification Process

AGENCY: National Institute of Food and Agriculture (NIFA), USDA.

ACTION: Final rule.

SUMMARY: This amendment to NIFA regulations updates the list of institutions that are granted Hispanic-Serving Agricultural Colleges and Universities (HSACU) certification by the Secretary and are eligible for HSACU programs for the period starting October 1, 2018, and ending September 30, 2019.

DATES: This rule is effective June 7, 2019 and applicable from October 1, 2018-September 30, 2019.

FOR FURTHER INFORMATION CONTACT: Joanna Moore; Senior Policy Specialist; National Institute of Food and Agriculture; U.S. Department of Agriculture; STOP 2272; 1400 Independence Avenue SW; Washington, DC 20250-2272; Voice: 202-690-6011; Fax: 202-401-7752; Email: jmoore@nifa.usda.gov.

SUPPLEMENTARY INFORMATION:

HSACU Institutions for Fiscal Year 2019

This rule makes changes to the existing list of institutions in appendix B of 7 CFR part 3434. The list of institutions is amended to reflect the institutions that are granted HSACU certification by the Secretary and are eligible for HSACU programs for the period starting October 1, 2018, and ending September 30, 2019.

Certification Process

As stated in 7 CFR 3434.4, an institution must meet the following criteria to receive HSACU certification: (1) Be a Hispanic-Serving Institution (HSI), (2) offer agriculture-related degrees, (3) not appear on the Excluded Parties List System (EPLS), (4) be accredited, and (5) award at least 15% of agriculture-related degrees to Hispanic students over the two most recent academic years.

NIFA obtained the latest report from the U.S. Department of Education's National Center for Education Statistics that lists all HSIs and the degrees conferred by these institutions (completion data) during the 2016-17 academic year. NIFA used this report to identify HSIs that conferred a degree in an instructional program that appears in appendix A of 7 CFR part 3434 and to confirm that over the 2015-16 and 2016-17 academic years at least 15% of the degrees in agriculture-related fields were awarded to Hispanic students. NIFA further confirmed that these institutions were nationally accredited and were not on the exclusions listing in the System for Award Management (https://www.sam.gov/SAM/pages/public/searchRecords/search.jsf).

The updated list of HSACUs is based on (1) completions data from 2015-16 and 2016-17, and (2) enrollment data from Fall 2017. NIFA identified 158 institutions that met the eligibility criteria to receive HSACU certification for FY 2019 (October 1, 2018 to September 30, 2019).

Section 7102 of the Agriculture Act of 2018 (Pub. L. 115-334) amended Section 1404(14) of the National Agricultural Research, Extension, and Teaching Policy Act of 1977 (7 U.S.C. 3103(14)) to remove the opt-in, opt-out language for Hispanic Serving Agricultural Colleges and Universities (HSACU) in order to apply for Non Land-Grant College of Agriculture (NLGCA) designation.

Appeal Process

As set forth in 7 CFR 3434.8, NIFA will permit HSIs that are not granted HSACU certification to submit an appeal within 30 days of the publication of this notice.

Classification

This rule relates to internal agency management. Accordingly, pursuant to 5 U.S.C. 553, notice of proposed rulemaking and opportunity for comment are not required, and this rule may be made effective less than 30 days after publication in the Federal Register. This rule also is exempt from the provisions of Executive Order 12866. This action is not a rule as defined by the Regulatory Flexibility Act, as amended by the Small Business Regulatory Enforcement Fairness Act of 1996, 5 U.S.C. 601 et seq., or the Congressional Review Act, 5 U.S.C. 801 et seq., and thus is exempt from the provisions of those Acts. This rule contains no information collection or recordkeeping requirements under the Paperwork Reduction Act of 1995 (44 U.S.C. 3501 et seq.).

List of Subjects in 7 CFR Part 3434

Administrative practice and procedure, Agricultural research, education, extension, Hispanic-serving institutions, Federal assistance.

Title 7 of the Code of Federal Regulations is amended accordingly as set forth below:

PART 3434—HISPANIC-SERVING AGRICULTURAL COLLEGES AND UNIVERSITIES CERTIFICATION PROCESS

1. The authority citation for part 3434 continues to read as follows:

Authority: 7 U.S.C. 3103.

2. Revise appendix B to read as follows:

Appendix B to Part 3434—List of HSACU institutions, 2018-2019

The institutions listed in this appendix are granted HSACU certification by the Secretary and are eligible for HSACU programs for the period starting October 1, 2018, and ending September 30, 2019. Institutions are listed alphabetically under the state of the school's location, with the campus indicated where applicable.

Arizona (4)

Arizona Western College

Cochise County Community College

Mesa Community College

Pima Community College

California (67)

Allan Hancock College

Bakersfield College

Cabrillo College

California Baptist University

California State University—San Bernardino

California State University—Long Beach

California State University—Los Angeles

California State University—East Bay

California State University—Fullerton

California State University—Fresno

California State University—Chico

California State University—Bakersfield

California State University—Stanislaus

California State University—San Marcos

California State University—Monterey Bay

California State University—Channel Islands

California State Polytechnic—Pomona

Chaffey College

City College of San Francisco

Crafton Hills College

College of the Desert

College of the Sequoias

Cosumnes River College

Cuesta College

Cuyamaca College

El Camino Community College District

Foothill College

Fresno Pacific University

Fullerton College

Golden West College

Hartnell College

Humboldt State University

Imperial Valley College

Las Positas College

Long Beach City College

Los Angeles Pierce College

Mendocino College

Merced College

Mills College

Modesto Junior College

Mt San Antonio College

Mt San Jacinto Community College District

Napa Valley College

National University

Orange Coast College

Pacific Union College

Porterville College

Reedley College

Saddleback College

Santa Barbara City College

Santa Monica College

San Bernardino Valley College

San Diego City College

San Diego Mesa College

San Diego State University

San Joaquin State University

San Jose State University

Saint Mary's College of California

Southwestern College

University of California—Irvine

University of California—Riverside

University of California—Santa Barbara

University of California—Santa Cruz

Victor Valley College

West Hills College—Coalinga

Whittier College

Yuba College

Connecticut (1)

Norwalk Community College

Colorado (2)

Aims Community College

Community College of Denver

Florida (7)

Broward College

City College—Hollywood

Florida International University

Hillsborough Community College

Miami Dade College

South Florida State College

Valencia College

Illinois (3)

College of Lake County

Dominican University

Triton College

Kansas (2)

Dodge City Community College

Garden City Community College

Nevada (3)

College of Southern Nevada

Nevada State College

Truckee Meadows Community College

New Jersey (4)

Essex County College

Montclair State University

Saint Peter's University

William Paterson University of New Jersey

New Mexico (9)

Central New Mexico Community College

Eastern New Mexico University—Main Campus

Mesalands Community College

New Mexico Highlands University

Northern New Mexico College

Santa Fe Community College

Western New Mexico University

University of New Mexico—Los Alamos Campus

University of New Mexico—Main Campus

New York (8)

CUNY Hunter College

CUNY LaGuardia Community College

CUNY Lehman College

CUNY Queens College

CUNY Queensborough Community College

Mercy College

Nassau Community College

SUNY Westchester Community College

Puerto Rico (16)

Instituto Tecnologico de Puerto Rico—Recinto de Manati

Inter American University of Puerto Rico—Aguadilla

Inter American University of Puerto Rico—Bayamon

Inter American University of Puerto Rico—Metro

Inter American University of Puerto Rico—San German

Inter-American University of Puerto Rico—Ponce

Pontifical Catholic University of Puerto Rico—Arecibo

Pontifical Catholic University of Puerto Rico—Ponce

Universidad Del Turabo

Universidad Metropolitana

University of Puerto Rico—Humacao

University of Puerto Rico—Utuado

University of Puerto Rico—Mayaquez

University of Puerto Rico—Medical Sciences

University of Puerto Rico—Rio Piedras

Texas (28)

Angelo State University

Concordia University—Texas

Houston Community College

Frank Phillips College

Lee College

Odessa College

Palo Alto College

Saint Edwards's University

San Antonio College

Southwest Texas Junior College

St. Mary's University

Sul Ross University

Texas State University

Texas State Technical College

Texas A & M International University

Texas A & M University—Corpus Christi

Texas A & M University—Kingsville

The University of Texas at El Paso

The University of Texas Rio Grande Valley

The University of Texas at San Antonio

The University of Texas at Arlington

Texas Woman's University

University of Houston

University of Houston—Clear Lake

University of the Incarnate Word

University of St. Thomas

Western Texas College

Wayland Baptist University

Washington (4)

Big Bend Community College

Columbia Basin College

Wenatchee Valley College

Yakima Valley Community College

Done in Washington, DC, this 21 day of May 2019.
Steve Censky,
Deputy Secretary, U.S. Department of Agriculture.

[FR Doc. 2019-12021 Filed 6-6-19; 8:45 am]

BILLING CODE 3410-22-P